DEPARTMENT OF HEALTH AND HUMAN SERVICES

Food and Drug Administration

21 CFR Part 73

[Docket No. FDA-2021-C-0522]

Listing of Color Additives Exempt From Certification; Gardenia (Genipin) Blue; Correction

AGENCY: Food and Drug Administration, HHS.

ACTION: Final amendment; order; correction.

SUMMARY: The Food and Drug Administration (FDA or we) is correcting the order entitled “Listing of Color Additives Exempt from Certification; Gardenia (Genipin) Blue”. In the order, FDA amended the color additive regulations to provide for the safe use of gardenia (genipin) blue in various foods, at levels consistent with good manufacturing practice (GMP). The order inadvertently misstated the methanol specification. This document corrects that error.

DATES: Effective August 29, 2025.

FOR FURTHER INFORMATION CONTACT: Stephen DiFranco, Office of Pre-market Additive Safety, Human Foods Program, Food and Drug Administration, 5001 Campus Dr., College Park, MD 20740, 240-402-2710; or Deirdre Jurand, Office of Policy, Regulations, and Information, Human Foods Program, Food and Drug Administration, 5001 Campus Dr., College Park, MD 20740, 240-402-2378.

SUPPLEMENTARY INFORMATION: In FR Doc. 2025-13175, appearing on page 31586 in the Federal Register of Tuesday, July 15, 2025, the following corrections are made:

1. In the Supplementary Information section, in subsection II: Background, on page 31588, in the first column, in the middle of the first full paragraph, “6 mg/kg (6 ppm)” is corrected to read “300 mg/kg (300 ppm)”.

§ 73.168 [Corrected]

2. On page 31590, in the second column, in § 73.168, in paragraph (b)(3), “Methanol, not more than 6 mg/kg (6 ppm).” is corrected to read “Methanol, not more than 300 mg/kg (300 ppm).”

Dated: August 1, 2025.
Grace R. Graham,
Deputy Commissioner for Policy, Legislation, and International Affairs.

[FR Doc. 2025-14905 Filed 8-5-25; 8:45 am]

BILLING CODE 4164-01-P